FEDERAL COMMUNICATIONS COMMISSION

[FR ID 106221]

Open Commission Meeting Thursday, September 29, 2022

The Federal Communications Commission will hold an Open Meeting on the subjects listed below on Thursday, September 29, 2022, which is scheduled to commence at 10:30 a.m. in the Commission Meeting Room of the Federal Communications Commission, 45 L Street NE, Washington, DC. While attendance at the Open Meeting is available to the public, the FCC headquarters building is not open access, and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | INTERNATIONAL | Title: Space Innovation (IB Docket No. 22-271) Mitigation of Orbital Debris in the New Space Age (IB Docket No. 18-313).
|  | Summary: The Commission will consider a Second Report and Order that would adopt rules requiring low-Earth orbit space station operators planning disposal through uncontrolled atmospheric re-entry to complete disposal as soon as practicable, and no more than five years following the end of their mission. The Report and Order would also adopt a grandfathering period of two years and address the potential for waivers for certain types of research and scientific missions.
2 | CONSUMER & GOVERNMENTAL AFFAIRS AND WIRELINE COMPETITION | Title: `Calling Services for Incarcerated People (WC Docket No. 12-375). Summary: The Commission will consider a Report and Order and Further Notice of Proposed Rulemaking to improve access to communications for incarcerated people with disabilities and reduce the financial burdens created by certain calling service charges and practices.
3 | PUBLIC SAFETY & HOMELAND SECURITY | Title: Improving Accessibility and Clarity of Emergency Alerts (PS Docket No. 15-94). Summary: The Commission will consider a Report and Order to improve the clarity and accessibility of Emergency Alert System (EAS) visual messages to the public, including persons who are deaf or hard of hearing as well as others who are unable to access the audio message.
4 | MEDIA | Title: Removing Obsolete Analog TV Rules (MB Docket No. 22-227).
|  | Summary: The Commission will consider a Notice of Proposed Rulemaking that would amend Part 73 of its rules for television and Class A television broadcast stations to remove obsolete rules for analog TV operations.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission
Dated: September 22, 2022.
Katura Jackson,
Federal Register Liaison.

[FR Doc. 2022-20981 Filed 9-27-22; 8:45 am]

BILLING CODE 6712-01-P